DEPARTMENT OF HEALTH AND HUMAN SERVICES

Administration for Children and Families

Agency Recordkeeping/Reporting Requirements Under Emergency

Review by the Office of Management and Budget (OMB)

Title: OCSE-75 Tribal Child Support Enforcement Program Annual Data Report.

OMB No.: 0970-0320 New Collection.

Description: The data collected by form OCSE-75 are used to prepare the OCSE preliminary and annual data reports. In addition, Tribes administering CSE programs under Title IV-D of the Social Security Act are required to report program status and accomplishments in an annual narrative report and submit the OCSE-75 report annually.

Respondents: Tribal Child Support Enforcement Organizations or the Department/Agency/Bureau responsible for Child Support Enforcement in each tribe.

Annual Burden Estimates
Instrument | Number of respondents | Number of responses per respondent | Average burden hours per response | Total burden hours
OCSE-75 | 60 | 1 | 60 | 3,600

Estimated Total Annual Burden Hours: 3,600

Additional Information:

ACF is requesting that OMB grant a 180 day approval for this information collection under procedures for emergency processing by September 30, 2013. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street NW., Washington, DC 20503; FAX: (202) 395-7285; email: oira_submission@omb.eop.gov.

Robert Sargis,
Reports Clearance Officer.

[FR Doc. 2013-23188 Filed 9-23-13; 8:45 am]

BILLING CODE 4184-01-P